DEPARTMENT OF ENERGY

Federal Energy Regulatory Commission

[Docket No. AD21-9-000]

The Office of Public Participation; Notice of Virtual Spanish Listening Session

The Federal Energy Regulatory Commission (Commission) staff will convene, in the above-referenced proceeding, a virtual Spanish listening session on Tuesday, May 4, 2021, from 3:00 p.m. to 4:30 p.m. Eastern time, to solicit public input on public participation and engagement, language justice, and issues facing environmental justice communities by Commission proceedings in order for the Commission to establish and operate the Office of Public Participation (OPP).

The listening session will be open to the public and audio-only. Call-in information, including preregistration, can be found on the OPP website. The listening session will have consecutive Spanish translation, the operator will be bilingual, and an audio recording and transcript will be posted on the OPP website after the event. For questions about the listening session, please send an email to OPPWorkshop@ferc.gov.

The listening sessions will be accessible under section 508 of the Rehabilitation Act of 1973. For accessibility accommodations, please send an email to accessibility@ferc.gov or call toll free 1-866-208-3372 (voice) or 202-502-8659 (TTY), or send a FAX to 202-208-2106 with the required accommodations.

Kimberly D. Bose,
Secretary.

Los Estados Unidos de América Comisión Reguladora De Energía Federal

La Oficina de Participación Pública

Legajo No. AD21-9-000

Anuncio De Sesión Virtual Para Escuchar En Español

(14 de Abril, 2021)

Personal de la Comisión Reguladora de Energía Federal (Comisión) convocará, en el procedimiento referido arriba, una sesión virtual para escuchar en español el martes 4 de mayo del 2021 desde las 3:00 p.m. hasta las 4:30 p.m., hora del este, para solicitar aporte público sobre participación y compromiso público, justicia de lenguaje, y asuntos de justicia ambiental enfrentados por comunidades afectadas por procedimientos de la Comisión para la Comisión establecer y operar la Oficina de Participación Pública (OPP).

La sesión virtual para escuchar estará abierta al público y será solo audio. Para mayor información, incluyendo el proceso de pre-registro, puede ir al sitio web de la OPP. La sesión para escuchar tendrá traducción consecutiva, el operador será bilingüe; y posterior al evento, la grabación de audio y transcripción estarán disponibles en el sitio web de la OPP. Por favor dirigir preguntas sobre la sesión virtual para escuchar, al correo electrónico: OPPWorkshop@ferc.gov.

Las sesiones virtuales para escuchar estarán accesibles de acuerdo con la sección 508 del Acta de Rehabilitación de 1973. Para ayuda con accesibilidad, por favor enviar un correo electrónico a: accessibility@ferc.gov o llamar gratis al 1-866-208-3372 (voce) o 202-502-8659 (TTY), o enviar FAX al 202-208-2106 con las acomodaciones requeridas.

Dated: April 14, 2021.
Kimberly D. Bose,
Secretaria.

[FR Doc. 2021-08130 Filed 4-20-21; 8:45 am]

BILLING CODE 6717-01-P